DEPARTMENT OF TRANSPORTATION

Federal Railroad Administration

[Docket Number FRA-2005-20383]

Petition for Waiver of Compliance

In accordance with part 211 of Title 49 of the Code of Federal Regulations (CFR), this document provides the public notice that by a document dated October 28, 2015, the Maine Eastern Railroad (MERR) has petitioned the Federal Railroad Administration (FRA) for a waiver of compliance from certain provisions of the Federal railroad safety regulations contained at 49 CFR part 236. FRA assigned the petition Docket Number FRA-2005-20383.

This request is for relief from the mechanical locking requirements found in 49 CFR 236.312, Movable bridge, interlocking of signal appliances with bridge devices, on the Carlton Bridge at Bath, ME, Milepost 30.0 on the Rockland Branch. Specifically, MERR requests permission to detect displacement of the bridge-locking members when displaced more than 2 inches from their proper position, instead of the existing 1-inch requirement.

MERR states that it was granted relief from the 1-inch locking requirement in 2005 in Docket Number FRA-2005-20383, but allowed that waiver to expire in 2010. MERR notes that it is not possible to maintain the 1-inch span lock retraction limit in cold-temperature extremes. These conditions will cause the movable span-locking members to move within the fixed span positions enough to cause a noncompliance of the 1-inch requirement. The contraction of the steel affects the moveable span's west-end span lock adjustment, which requires a maintainer to travel to the bridge piers to seasonally adjust both west-end span lock circuit controller boxes to a setting of 2 inches to compensate for the contraction. Later in the season, the settings must be returned to 1 inch. This often places the maintainer at a safety risk due to icy conditions. The span lock members extend approximately 13 inches in length into the fixed portions when the movable span is locked with the fixed span.

A copy of the petition, as well as any written communications concerning the petition, is available for review online at www.regulations.gov and in person at the Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 8, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC.
Robert C. Lauby,
Associate Administrator for Railroad Safety. Chief Safety Officer.

[FR Doc. 2015-32450 Filed 12-23-15; 8:45 am]

BILLING CODE 4910-06-P